FEDERAL MARITIME COMMISSION

Notice of Intent To Terminate

The Commission gives notice that it intends to terminate the following agreement pursuant to 46 CFR 501.17(h)(2) thirty days from publication of this notice.

Agreement No.: 011918.

Agreement Name: Seaboard Marine/Frontier Lines Space Charter Agreement.

Reason for termination: Frontier Liner Services no longer registered Vessel Operating Common Carrier.

Location: https://www2.fmc.gov/FMC.Agreements.Web/Public/AgreementHistory/502.

Dated: August 5, 2022.
William Cody,
Secretary.

[FR Doc. 2022-17166 Filed 8-9-22; 8:45 am]

BILLING CODE 6730-02-P